DEPARTMENT OF COMMERCE

International Trade Administration

[A-570-898; A-469-814]

Chlorinated Isocyanurates From Spain and the People's Republic of China: Final Results of the Third Expedited Sunset Reviews of the Antidumping Duty Orders

AGENCY: Enforcement and Compliance, International Trade Administration, Department of Commerce.

SUMMARY: As a result of these expedited sunset reviews, the Department of Commerce (Commerce) finds that revocation of the antidumping duty (AD) orders on chlorinated isocyanurates (chlorinated isos) from Spain and the People's Republic of China (China) would likely lead to continuation or recurrence of dumping at the levels indicated in the “Final Results of Sunset Review” section of this notice.

DATES: Applicable January 31, 2022.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On October 1, 2021, Commerce published the Initiation Notice of the sunset reviews of the AD Orders,¹ pursuant to section 751(c)(2) of the Tariff Act of 1930, as amended (the Act).² In accordance with 19 CFR 351.218(d)(1), Commerce received timely and complete notices of intent to participate ³ in these sunset reviews from the domestic interested parties within 15 days of the Initiation Notice.⁴ The domestic interested parties claimed interested party status under section 771(9)(C) of the Act.

¹ See Chlorinated Isocyanurates from Spain: Notice of Antidumping Duty Order, 70 FR 36562 (June 24, 2005); see also Notice of Antidumping Duty Order: Chlorinated Isocyanurates from the People's Republic of China, 70 FR 36561 (June 24, 2005) (collectively, AD Orders).

² See Initiation of Five-Year (Sunset) Reviews, 86 FR 54423 (October 1, 2021) (Initiation Notice).

³ See Clearon, OxyChem and Bio-Lab's Letters, “Five-Year (`Sunset') Review of Antidumping Duty Order on Chlorinated Isocyanurates from China: Notice of Intent to Participate,” dated October 18, 2021; see also “Five-Year (`Sunset') Review of Antidumping Duty Order on Chlorinated Isocyanurates from Spain: Notice of Intent to Participate,” dated October 18, 2021.

⁴ The domestic interested parties are Clearon Corporation; Occidental Chemical Corporation; and Bio-Lab, Inc.

On November 1, 2021, Commerce received complete substantive responses from the domestic interested parties within the 30-day deadline specified in 19 CFR 351.218(d)(3)(i).⁵ Commerce did not receive substantive responses from any respondent interested party with respect to the orders on chlorinated isos from Spain or China. On November 30, 2021, Commerce notified the International Trade Commission that we did not receive adequate responses from respondent interested parties.⁶ In accordance with section 751(c)(3)(B) of the Act and 19 CFR 351.218(e)(1)(ii)(C)(2), Commerce conducted expedited, i.e., 120-day, sunset reviews of the AD Orders.

⁵ See Domestic Interested Parties' Letters, “Chlorinated Isocyanurates China: Substantive Response to Notice of Initiation of Five-Year (Sunset) Review of the Antidumping Duty Orders,” dated November 1, 2021; see also “Chlorinated Isocyanurates from Spain: Substantive Response to Notice of Initiation of Five-Year (Sunset) Review of the Antidumping Duty Orders,” dated November 1, 2021.

⁶ See Commerce's Letter, “Sunset Reviews Initiated on October 1, 2021,” dated November 30, 2021.

Scope of the AD Orders

The products covered by the AD Orders are chlorinated isos, which are derivatives of cyanuric acid, described as chlorinated s-triazine triones. The AD Orders cover all chlorinated isos. Chlorinated isos are currently classifiable under subheadings 2933.69.6015, 2933.69.6021, 2933.69.6050, 3808.40.5000, 3808.50.4000 and 3808.94.5000 of the Harmonized Tariff Schedule of the United States (HTSUS). Although the HTSUS subheadings are provided for convenience and customs purposes, the written description of the scope of the AD Orders is dispositive. A full description of the scope of the AD Orders is contained in the Issues and Decision Memorandum.⁷

⁷ See Memorandum, “Decision Memorandum for the Third Expedited Sunset Reviews of the Antidumping Duty Orders on Chlorinated Isocyanurates from Spain and the People's Republic of China,” dated concurrently with, and hereby adopted by, this notice (Issues and Decision Memorandum).

Analysis of Comments Received

All issues raised in these reviews are addressed in the Issues and Decision Memorandum, including the likelihood of continuation or recurrence of dumping in the event of revocation of the AD Orders and the magnitude of dumping margins likely to prevail if the AD Orders were revoked. A list of topics discussed in the Issues and Decision Memorandum is included as an appendix to this notice. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of the Third Sunset Reviews

Pursuant to sections 751(c) and 752(c)(1) and (3) of the Act, Commerce determines that revocation of the AD Orders would be likely to lead to continuation or recurrence of dumping and the magnitude of the margins of dumping likely to prevail would be weighted-averagemargins up to the following percentages:

Country | Weighted- average margin (percent)
Spain | 24.83
China | 285.63

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: January 26, 2022.
Lisa W. Wang,
Assistant Secretary for Enforcement and Compliance.

Appendix

List of Topics Discussed in the Issues and Decision Memorandum

I. Summary

II. Background

III. Scope of the AD Orders

IV. History of the AD Orders

V. Legal Framework

VI. Discussion of the Issues

1. Likelihood of Continuation or Recurrence of Dumping

2. Magnitude of the Dumping Margins Likely To Prevail

VII. Final Results of the Sunset Review

VIII. Recommendation

[FR Doc. 2022-01933 Filed 1-28-22; 8:45 am]

BILLING CODE 3510-DS-P